DEPARTMENT OF AGRICULTURE

Forest Service

Information Collection; Overcoming Barriers to Wildland Fire Defensible Space Behaviors

AGENCY: Forest Service, USDA.

ACTION: Notice; request for comment.

SUMMARY: In accordance with the Paperwork Reduction Act of 1995, the Forest Service is seeking comments from all interested individuals and organizations on the new information collection, Overcoming Barriers to Wildland Fire Defensible Space Behaviors.

DATES: Comments must be received in writing on or before November 23, 2010 to be assured of consideration. Comments received after that date will be considered to the extent practicable.

ADDRESSES: Comments concerning this notice should be addressed to James Absher, Forest Service, U.S. Department of Agriculture, 4955 Canyon Crest Drive, Riverside, CA 92507. Comments also may be submitted via e-mail to: jabsher@fs.fed.us.

The public may inspect comments received at Forest Service Reception, 4955 Canyon Crest Drive, Riverside, CA during normal business hours. Visitors are encouraged to call ahead to 951-680-1500 to facilitate entry to the building.

FOR FURTHER INFORMATION CONTACT: James Absher, Pacific Southwest Research Station, Forest Service, 951-680-1500. Individuals who use telecommunication devices for the deaf (TDD) may call the Federal Relay Service (FRS) at 1-800-877-8339 between 8 a.m and 8 p.m, Eastern Standard time, Monday through Friday.

SUPPLEMENTARY INFORMATION: Title: Overcoming Barriers to Wildland Fire Defensible Space Behaviors.

OMB Number: 0596-New.

Type of Request: New.

Abstract: Recent wildfires in the Western United States highlight the need for understanding the human dimensions of wildfire management, especially for policies and programs that affect property losses in the wildland urban interface (WUI). Because the impacts of wildland fire extend beyond public land boundaries into the private communities lying on their periphery, understanding the public's response to the loss of both public and private property is important.

Information will be collected through a mail survey of WUI residents. Initial surveys will focus on Colorado Front Range homeowners. Respondents will be chosen to reflect a variety of setting attributes such as distance from wildlands, recent fire history, community preparedness actions, and local fire code differences. The survey will provide information regarding barriers to participating in fire hazard reduction programs in the wildland-urban interface and basic socio-demographics. Participation in the survey will be strictly voluntary.

The survey is necessary to identify obstacles that prevent residents from adopting defensible space behaviors and understand residents' perceptions of their roles and responsibilities. This information collected will help wildland fire managers and researchers (1) identify practical steps for reducing barriers to implementing defensible space behaviors at an individual and neighborhood level and (2) develop future risk reduction programs.

A Forest Service or cooperating researcher will collect and analyze the data. Additionally, in order to ensure anonymity, personal information will not be stored with contact information at any time, and contact information will be purged from researcher files once data collection is complete.

Estimate of Annual Burden: 20 minutes per respondent.

Type of Respondents: Individual homeowners who currently live in the wildland-urban interface, age 18 or older.

Estimated Annual Number of Respondents: 3,000.

Estimated Annual Number of Responses per Respondent: 1.

Estimated Total Annual Burden on Respondents: 1,000 hours.

Comment Is Invited

Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request toward Office of Management and Budget approval.

Dated: September 17, 2010.
Carlos Rodriguez-Franco,
Acting Deputy Chief, Forest Service, Research and Development.

[FR Doc. 2010-23918 Filed 9-23-10; 8:45 am]

BILLING CODE 3410-11-P